SECURITIES AND EXCHANGE COMMISSION

[Release No. 34-70802; File No. SR-NYSEMKT-2013-59]

Self-Regulatory Organizations; NYSE MKT LLC; Notice of Withdrawal of Proposed Rule Change Relating to NDX and RUT Combination Orders November 4, 2013.

On June 21, 2013, NYSE MKT LLC (“NYSE MKT”) filed with the Securities and Exchange Commission (“Commission”) a proposed rule change pursuant to Section 19(b)(1) of the Securities Exchange Act of 1934 ¹ and Rule 19b-4 thereunder ² to amend NYSE MKT Rule 965NY to revise the procedures governing the trading of NDX and RUT combination orders. The proposed rule change was published for comment in the Federal Register on July 9, 2013.³ The Commission initially received two comment letters regarding the proposal.⁴ NYSE MKT responded to the comment letters on August 19, 2013.⁵ On August 20, 2013, the Commission extended the time period for Commission action to October 7, 2013.⁶ On October 1, 2013, the Commission instituted proceedings to determine whether to approve or disapprove the proposed rule change.⁷ NYSE MKT submitted an additional letter regarding the proposal on October 4, 2013.⁸ The Commission subsequently received one additional comment letter on the proposal.⁹ On November 1, 2013, NYSE MKT withdrew the proposed rule change (SR-NYSEMKT-2013-59).

¹ 15 U.S.C. 78s(b)(1).

² 17 CFR 240.19b-4.

³ See Securities Exchange Act Release No. 69919 (July 2, 2013), 78 FR 41168 (July 9, 2013).

⁴ See letters to Elizabeth M. Murphy, Secretary, Commission, from Darren Story, CFA, Student Options, LLC, dated July 12, 2013; and David Spack, Chief Compliance Officer, Casey Securities, LLC, dated August 2, 2013.

⁵ See letter to Elizabeth M. Murphy, Secretary, Commission, from Janet McGinness, EVP and Corporate Secretary, NYSE Euronext, dated August 19, 2013.

⁶ See Securities Exchange Act Release No. 70235 (August 20, 2013), 78 FR 52818 (August 26, 2013).

⁷ See Securities Exchange Act Release No. 70588 (October 1, 2013), 78 FR 62766 (October 22, 2013).

⁸ See letter to Elizabeth M. Murphy, Secretary, Commission, from Janet McGinness, EVP and Corporate Secretary, General Counsel, NYSE Markets, NYSE Euronext, dated October 4, 2013.

⁹ See letter from Robert Pellicone, dated October 7, 2013.

¹⁰ 17 CFR 200.30-3(a)(12).

For the Commission, by the Division of Trading and Markets, pursuant to delegated authority.¹⁰
Kevin M. O'Neill,
Deputy Secretary.

[FR Doc. 2013-26756 Filed 11-7-13; 8:45 am]

BILLING CODE 8011-01-P